ENVIRONMENTAL PROTECTION AGENCY

[FRL-8185-9]

Science Advisory Board (SAB) Staff Office; Notification of an Upcoming Teleconference of the SAB Ecological Processes and Effects Committee

AGENCY: Environmental Protection Agency (EPA).

ACTION: Notice.

SUMMARY: The EPA Science Advisory Board (SAB) Staff Office announces a public teleconference of the SAB Ecological Processes and Effects Committee.

DATES: The public teleconference will be held on July 12, 2006, from 10 a.m. to 12 p.m. (eastern daylight time).

FOR FURTHER INFORMATION CONTACT: Members of the public who wish to obtain the call-in number and access code for the teleconference may contact Dr. Thomas Armitage, Designated Federal Officer (DFO), by mail at EPA SAB Staff Office (1400F), U.S. EPA, 1200 Pennsylvania Avenue, NW., Washington, DC 20460; by telephone at (202) 343-9995; or by e-mail at armitage.thomas@epa.gov. General information about the SAB may be found on the SAB Web site at http://www.epa.gov/sab.

SUPPLEMENTARY INFORMATION:

Background

Pursuant to the Federal Advisory Committee Act, Public Law 92-463, notice is hereby given that the SAB Ecological Processes and Effects Committee will hold a public teleconference to discuss a draft ecological risk assessment workshop summary document. On February 7-8, 2006, the Committee held a public workshop on the state-of-the-practice of ecological risk assessment. Background information on the workshop was provided in a Federal Register notice published on September 8, 2005 (70 FR 53360). The Committee is holding the teleconference to discuss a draft workshop summary document and development of a report to EPA. The Committee's draft workshop summary document and teleconference agenda will be posted on the SAB Web site provided above prior to the teleconference. The Panel will comply with the provisions of the Federal Advisory Committee Act (FACA) and all appropriate SAB procedural policies.

Procedures for Providing Public Input

Members of the public may submit relevant written or oral information for the SAB Committee to consider during the advisory process. Oral Statements: In general, individuals or groups requesting an oral presentation at a public teleconference will be limited to three minutes per speaker with no more than a total of fifteen minutes for all speakers. Interested parties should contact the DFO, contact information provided above, in writing via e-mail seven days before the teleconference in order to be placed on the public speaker list. Written Statements: Written statements should be received in the SAB Staff Office at least seven days before the meeting so that the information may be made available to the Panel for their consideration. Written statements should be supplied to the DFO in the following formats: one hard copy with original signature, and one electronic copy via e-mail (acceptable file format: Adobe Acrobat, WordPerfect, Word, or Rich Text files (in IBM-PC/Windows 98/2000/XP format).

Meeting Accommodations

For information on access or services for people with disabilities, please contact the DFO, contact information provided above. To request accommodation of a disability please contact the DFO, preferably at least ten business days prior to the meeting, to give EPA as much time as possible to process your request.

Dated: June 15, 2006.
Anthony F. Maciorowski,
Associate Director for Science, EPA Science Advisory Board Staff Office.

[FR Doc. E6-9655 Filed 6-19-06; 8:45 am]

BILLING CODE 6560-50-P